ENVIRONMENTAL PROTECTION AGENCY

[FRL-8274-3]

Access to Confidential Business Information by Industrial Economics, Inc. and Its Subcontractors, Cascadia Consulting, DPRA, Inc., Energy and Environmental Research Corporation (A Subsidiary of General Electric) (“EERGC”), ERG Corporation, Indtai, Inc., Menzie Cura, Ross & Associates, and RTI International

AGENCY: Environmental Protection Agency (EPA).

ACTION: Notice of access to data and request for comments.

SUMMARY: EPA will authorize its contractor, Industrial Economics, Inc., and its subcontractors, Cascadia Consulting, DPRA, Inc., Energy and Environmental Research Corporation (a subsidiary of General Electric) (“EERGC”), ERG Corporation, Indtai, Inc., Menzie Cura, Ross & Associates, and RTI International to access Confidential Business Information (CBI) which has been submitted to EPA under the authority of all sections of the Resource Conservation and Recovery Act (RCRA) of 1976, as amended. EPA has issued regulations (40 CFR Part 2, Subpart B) that outline business confidentiality provisions for the Agency and require all EPA Offices that receive information designated by the submitter as CBI to abide by these provisions.

DATES: Access to confidential data submitted to EPA will occur no sooner than February 9, 2007.

ADDRESSES: Comments should be sent to LaShan Haynes, Document Control Officer, Office of Solid Waste (5305P), U.S. Environmental Protection Agency, 1200 Pennsylvania Avenue, NW., Washington, DC 20460. Comments should be identified as “Access to Confidential Data.”

FOR FURTHER INFORMATION CONTACT: LaShan Haynes, Document Control Officer, Office of Solid Waste (5305P), U.S. Environmental Protection Agency, 1200 Pennsylvania Avenue, NW., Washington, DC 20460, 703-605-0516.

SUPPLEMENTARY INFORMATION:

1. Access to Confidential Business Information

Under EPA Contract No. EP-W-07-011, Industrial Economics, Inc., and its subcontractors, Cascadia Consulting, DPRA, Inc., EERGC, ERG Corporation, Indtai, Inc., Menzie Cura, Ross & Associates, and RTI International will assist the Economics, Methods, Risk Analysis Division of the Office of Solid Waste (OSW) with data and information collection, analysis, and management; regulatory assessment including costs, benefits, and economic and other impacts; program transformation, evaluation and support; hazard, exposure, and risk assessment support; and, document preparation. OSW collects data from industry to support the RCRA hazardous waste regulatory program. Some of the data collected from industry are claimed by industry to contain trade secrets or CBI. In accordance with the provisions of 40 CFR Part 2, Subpart B, OSW has established policies procedures for handling information collected from industry, under the authority of RCRA, including RCRA Confidential Business Information Security Manuals. Industrial Economics, Inc., and its subcontractors, Cascadia Consulting, DPRA, Inc., EERGC, ERG Corporation, Indtai, Inc., Menzie Cura, Ross & Associates, and RTI International, shall protect from unauthorized disclosure all information designated as confidential and shall abide by all RCRA CBI requirements, including procedures outlined in the RCRA CBI Security Manual.

The U.S. Environmental Protection Agency has issued regulations (40 CFR Part 2, Subpart B) that outline business confidentiality provisions for the Agency and require all EPA Offices that receive information designated by the submitter as CBI to abide by these provisions. Industrial Economics, Inc., and its subcontractors, Cascadia Consulting, DPRA, Inc., EERGC, ERG Corporation, Indtai, Inc., Menzie Cura, Ross & Associates, and RTI International will be authorized to have access to RCRA CBI under the EPA “Contractor Requirements for the Control and Security of RCRA Confidential Business Information Security Manual.”

EPA is issuing this notice to inform all submitters of information under all sections of RCRA that EPA will provide Industrial Economics, Inc. and its subcontractors, Cascadia Consulting, DPRA, Inc., EERGC, ERG Corporation, Indtai, Inc., Menzie Cura, Ross & Associates, and RTI International, access to the CBI records located in the RCRA Confidential Business Information Center. Access to RCRA CBI under this contract will take place at EPA Headquarters only. Contractor personnel will be required to sign non-disclosure agreements and will be briefed on appropriate security procedures before they are permitted access to confidential information.

Dated: January 18, 2007.
Matthew Hale,
Director, Office of Solid Waste.

[FR Doc. E7-1424 Filed 1-29-07; 8:45 am]

BILLING CODE 6560-50-P